DEPARTMENT OF HOMELAND SECURITY

Coast Guard

33 CFR Parts 154, 155, and 156

46 CFR Parts 35 and 39

[USCG-1999-5150]

RIN 1625-AB37

Marine Vapor Control Systems

AGENCY: Coast Guard, DHS.

ACTION: Final rule; information collection approval.

SUMMARY: The Coast Guard announces that the Office of Management and Budget (OMB) has approved the amendment of an existing collection of information, as requested by the Coast Guard and described in the final rule published on July 16, 2013. The final rule revised safety regulations for facility and vessel vapor control systems (VCSs) to promote safe VCS operation in an expanded range of activities now subject to current Federal and State environmental requirements, reflect industry advances in VCS technology, and codify the standards for the design and operation of a VCS at tank barge cleaning facilities. The revised regulations increase operational safety by regulating the design, installation, and use of VCSs, but they do not require anyone to install or use VCSs. The OMB must approve any regulatory provisions that constitute a collection of information under the Paperwork Reduction Act, before an agency can enforce those provisions. Having received OMB's approval, the Coast Guard will now enforce collection of information requirements in the final rule. This rulemaking promotes the Coast Guard's maritime safety and stewardship missions.

DATES: The collection of information requirements contained in the July 16, 2013 final rule (78 FR 42596) and approved by the OMB as an amendment to existing collection of information, control number 1625-0060, will be enforced beginning September 10, 2015. The requirements include provisions for VCS certifications, recertifications, periodic operational reviews, approval requests, reviews of operating manuals, failure analyses, operational review letters, and relabeling. These requirements aid the Coast Guard and industry in ensuring industry's regulatory compliance and safe practices in connection with VCSs.

FOR FURTHER INFORMATION CONTACT: For information about this document, call or email Dr. Cynthia Znati, Office of Design and Engineering Standards, U.S. Coast Guard; telephone 202-372-1412, email hazmatstandards@uscg.mil. For information about viewing or submitting material to the docket, call Cheryl Collins, Program Manager, Docket Operations, telephone 202-366-9826, toll free 1-800-647-5527.

SUPPLEMENTARY INFORMATION: The Coast Guard's final rule, 78 FR 42596 (July 16, 2013), contained information collection provisions that cannot be enforced against any member of the public until OMB approves those provisions and assigns one or more OMB control numbers. The OMB has now approved those provisions and assigned OMB Control Number 1625-0060, and the Coast Guard will enforce them beginning September 10, 2015.

Documents mentioned in this document are in our online docket for USCG-1999-5150 at http://www.regulations.gov and can be viewed by following the Web site's instructions. You can also view the docket online at the Docket Management Facility (M-30), U.S. Department of Transportation, West Building Ground Floor, Room W12-140, 1200 New Jersey Avenue SE., Washington, DC 20590-0001 between 9 a.m. and 5 p.m., Monday through Friday, except Federal holidays.

This document is issued under authority of 5 U.S.C. 552(a).

Dated: September 3, 2015.
J.G. Lantz,
Director of Commercial Regulations and Standards, U.S. Coast Guard.

[FR Doc. 2015-22779 Filed 9-9-15; 8:45 am]

BILLING CODE 9110-04-P